DEPARTMENT OF TRANSPORTATION

Federal Aviation Administration

14 CFR Part 39

[Docket No. FAA-2015-8434; Directorate Identifier 2015-NM-082-AD]

RIN 2120-AA64

Airworthiness Directives; Bombardier, Inc., Airplanes

AGENCY: Federal Aviation Administration (FAA), DOT.

ACTION: Supplemental notice of proposed rulemaking (SNPRM); reopening of comment period.

SUMMARY: We are revising an earlier proposal for certain Bombardier, Inc., Model DHC-8-401 and -402 airplanes. This action revises the notice of proposed rulemaking (NPRM) by adding certain airplanes to the applicability and adding specified actions. We are proposing this airworthiness directive (AD) to address the unsafe condition on these products. Since these changes increase the scope of the NPRM, we are reopening the comment period to allow the public the chance to comment on these proposed changes.

DATES: The comment period for the NPRM published in the Federal Register on January 13, 2016 (81 FR 1586), is reopened.

We must receive comments on this SNPRM by August 28, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building, Ground Floor, Room W12-140, 1200 New Jersey Avenue SE., Washington, DC 20590.

• Hand Delivery: U.S. Department of Transportation, Docket Operations, M-30, West Building, Ground Floor, Room W12-140, 1200 New Jersey Avenue SE., Washington, DC, between 9 a.m. and 5 p.m., Monday through Friday, except Federal holidays.

• For service information identified in this proposed AD, contact Bombardier, Inc., Q-Series Technical Help Desk, 123 Garratt Boulevard, Toronto, Ontario M3K 1Y5, Canada; telephone 416-375-4000; fax 416-375-4539; email thd.qseries@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8434; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue, Suite 410, Westbury, NY 11590; telephone 516-228-7318; fax 516-794-5531.

SUPPLEMENTARY INFORMATION:

Comments Invited

We invite you to send any written relevant data, views, or arguments about this proposal. Send your comments to an address listed under the ADDRESSES section. Include “Docket No. FAA-2015-8434; Directorate Identifier 2015-NM-082-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 by adding an AD that would apply to certain Bombardier, Inc. Model DHC-8-401 and -402 airplanes. The NPRM published in the Federal Register on January 13, 2016 (81 FR 1586) (“the NPRM”). The NPRM was prompted by a discovery of cracking on two test spoiler power control units (PCUs) manifolds during testing by the manufacturer. The NPRM proposed to require replacement of affected spoiler PCUs.

Actions Since the NPRM Was Issued

Since we issued the NPRM, we have determined that certain airplanes were inadvertently omitted from the applicability of the NPRM; and additional actions were necessary.

Transport Canada Civil Aviation (TCCA), which is the aviation authority for Canada, has issued Canadian Airworthiness Directive CF-2015-07R2, dated December 14, 2016 (referred to after this as the Mandatory Continuing Airworthiness Information, or “the MCAI”), to correct an unsafe condition for certain Bombardier, Inc. Model DHC-8-401 and -402 airplanes. The MCAI states:

During endurance and impulse testing of the spoiler PCU, cracks were discovered on two test spoiler PCU manifolds. Investigation determined that the crack initiation was due to the heat treat process. A cracked spoiler PCU manifold could cause the loss of one of the two hydraulic systems, resulting in the loss of multiple flight controls and landing gear systems. This condition, if not corrected, could adversely affect the continued safe operation and landing of the aeroplane.

This [Canadian] AD mandates the replacement of the affected spoiler PCUs.

Revision 1 of this [Canadian] AD was issued to extend the applicability to include additional aeroplane serial numbers and also modify the Corrective Actions to specifically mandate section 3.B of the [Service Bulletin] SB 84-27-64, Revision A.

Revision 2 of this [Canadian] AD was issued to correct the SB referenced in the Background section. SB 84-27-64, Revision A should have been referenced in lieu of SB 84-27-63, Revision A.

You may examine the MCAI in the AD docket on the Internet at http://www.regulations.gov by searching for and locating Docket No. FAA-2015-8434.

Related Service Information Under 1 CFR Part 51

Bombardier, Inc. has issued Bombardier Service Bulletin 84-27-64, Revision A, dated July 26, 2016. The service information describes procedures for replacement of affected spoiler PCU manifolds.

Parker-Hannifin Corporation has issued Parker Service Bulletin 390700-27-002, Revision 1, dated April 13, 2016. This service bulletin identifies affected spoiler PCUs that need to be returned to Parker Customer Support for rework.

This service information is reasonably available because the interested parties have access to it through their normal course of business or by the means identified in the ADDRESSES section.

Comments

We gave the public the opportunity to participate in developing this proposed AD. We considered the comment received.

Request To Remove Requirement for Job Set-up and Close-out

Horizon Air requested that paragraph (g) of the proposed AD (in the NPRM) be revised to remove the requirement for job set-up and close-out in the Accomplishment Instructions of Bombardier Service Bulletin 84-27-64, dated July 15, 2014. Horizon Air stated that performing the job set-up and close-out sections specified in Bombardier Service Bulletin 84-27-64, dated July 15, 2014, as a requirement of the AD, restricts an operator's ability to perform other maintenance in conjunction with incorporating Bombardier Service Bulletin 84-27-64, dated July 15, 2014.

We agree that job set-up and close-out may be done using approved procedures other than those provided in the Accomplishment Instructions of Bombardier Service Bulletin 84-27-64, dated July 15, 2014, or Revision A, dated July 26, 2016. Therefore, access and close would not be specifically required by this proposed AD. We have revised paragraph (g) of this proposed AD (in the SNPRM) to require only the actions specified in paragraph 3.B. in the Accomplishment Instructions of Bombardier Service Bulletin 84-27-64, Revision A, dated July 26, 2016. We find that this change adequately addresses the commenter's request.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM. As a result, we have determined that it is necessary to reopen the comment period to provide additional opportunity for the public to comment on this SNPRM.

Costs of Compliance

We estimate that this SNPRM affects 82 airplanes of U.S. registry.

We estimate the following costs to comply with this proposed AD:

Estimated costs
Action | Labor cost | Parts cost | Cost per product | Cost on U.S. operators
Remove and replace affected PCUs | 2 work-hours × $85 per hour = $170 per airplane | $10,000 per airplane | $10,170 per airplane | $833,940

The new requirements of this proposed AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2015-8434; Directorate Identifier 2015-NM-082-AD.

(a) Comments Due Date

We must receive comments by August 28, 2017.

(b) Affected ADs

None.

(c) Applicability

This AD applies to the following Bombardier, Inc. Model DHC-8-401 and -402 airplanes, certificated in any category, serial numbers (S/Ns) 4001, and 4003 through 4527 inclusive, equipped with spoiler power control unit (PCU) part numbers (P/Ns) 390700-1007 and -1009 and that have any serial number identified in paragraph (c)(1), (c)(2), or (c)(3) of this AD.

(1) S/Ns 0474 through 1321 inclusive;

(2) S/Ns identified in the Parker Service Bulletin 390700-27-002, Revision 1, section 4. Appendix, dated April 13, 2016; and

(3) S/Ns 1394 through 1876 inclusive, without suffix “A.”

(d) Subject

Air Transport Association (ATA) of America Code 27, Flight Control System.

(e) Reason

This AD was prompted by the discovery of cracking on two test spoiler PCU manifolds during testing by the manufacturer. We are issuing this AD to prevent cracking of the spoiler PCUs that could lead to the loss of multiple flight controls and landing gear systems.

(f) Compliance

Comply with this AD within the compliance times specified, unless already done.

(g) Inspection/Replacement

Within 12,000 flight hours or 72 months after the effective date of this AD, whichever occurs first: Remove and replace the affected spoiler PCUs in accordance with paragraph 3.B. in the Accomplishment Instructions of Bombardier Service Bulletin 84-27-64, Revision A, dated July 26, 2016.

(h) Parts Installation Prohibition

After the actions required by paragraph (g) of this AD have been done, no person may install, on any airplane, a spoiler PCU, part number 390700-1007 and -1009, with:

(1) S/Ns 0474 through 1321 inclusive;

(2) S/Ns identified in the Parker Service Bulletin 390700-27-002, Revision 1, section 4. Appendix, dated April 13, 2016; and

(3) S/Ns 1394 through 1876 inclusive, without suffix “A.”

(i) Credit for Previous Actions

This paragraph provides credit for actions required by paragraph (g) of this AD, if those actions were performed before the effective date of this AD using Bombardier Service Bulletin 84-27-64, dated July 15, 2014.

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian AD CF-2015-07R2, dated December 14, 2016, for related information. This MCAI may be found in the AD docket on the Internet at http://www.regulations.gov by searching for and locating Docket No. FAA-2015-8434.

(2) For further information about this AD, contact Cesar Gomez, Aerospace Engineer, Airframe and Mechanical Systems Branch, ANE-171, FAA, New York Aircraft Certification Office (ACO), 1600 Stewart Avenue, Suite 410, Westbury, NY 11590; telephone 516-228-7318; fax 516-794-5531; email: Cesar.Gomez@faa.gov.

(3) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com. You may view this service information at the FAA, Transport Airplane Directorate, 1601 Lind Avenue SW., Renton, WA. For information on the availability of this material at the FAA, call 425-227-1221.

Issued in Renton, Washington, on June 29, 2017.
Michael Kaszycki,
Acting Manager, Transport Airplane Directorate, Aircraft Certification Service.

[FR Doc. 2017-14591 Filed 7-13-17; 8:45 am]

BILLING CODE 4910-13-P